SMALL BUSINESS ADMINISTRATION

[Disaster Declaration #11008 and #11009]

Oklahoma Disaster Number OK-00013

AGENCY: U.S. Small Business Administration.

ACTION: Amendment 2.

SUMMARY: This is an amendment of the Presidential declaration of a major disaster for the State of Oklahoma (FEMA-1718-DR), dated 08/24/2007.

Incident: Severe Storms, Tornadoes, and Flooding.

Incident Period: 08/18/2007 through 09/12/2007.

Effective Date: 09/17/2007.

Physical Loan Application Deadlne Date: 10/23/2007.

EIDL Loan Application Deadline Date: 05/26/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Oklahoma, dated 08/24/2007 is hereby amended to include the following areas as adversely affected by the disaster:

Primary Counties: Canadian, Cleveland, Comanche, Custer, Grady, Kiowa, Okfuskee, Oklahoma, Okmulgee, Pottawatomie, Seminole, Stephens.

Contiguous Counties: Oklahoma: Beckham, Carter, Cotton, Creek, Garvin, Greer, Huges, Jackson, Jefferson, Lincoln, McClain, McIntosh, Muskogee, Pontotoc, Roger Mills, Tillman, Tulsa, Wagoner.

All other information in the original declaration remains unchanged.

(Catalog of Federal Domestic Assistance Numbers 59002 and 59008)
Roger B. Garland,
Acting Associate Administrator for Disaster Assistance.

[FR Doc. 07-4691 Filed 9-20-07; 8:45 am]

BILLING CODE 8025-01-M